EXECUTIVE OFFICE OF THE PRESIDENT

Request for Information To Support the Development of a Federal Scientific Integrity Policy Framework

AGENCY: White House Office of Science and Technology Policy (OSTP).

ACTION: Notice of request for information (RFI).

SUMMARY: The White House Office of Science and Technology Policy (OSTP) seeks information to assist in developing a framework for regular assessment and iterative improvement of agency scientific integrity policies and practices. This effort builds on the Scientific Integrity Task Force's review of existing scientific integrity policies and practices, released in the January 11, 2022 report, Protecting the Integrity of Government Science.

DATES: Interested persons and organizations are invited to submit comments on or before 5:00 p.m. ET on April 4, 2022.

ADDRESSES: Interested individuals and organizations should submit comments electronically to ScientificIntegrityRFI@ostp.eop.gov and include “SI RFI” in the subject line of the email. Due to time constraints, mailed paper submissions will not be accepted, and electronic submissions received after the deadline cannot be ensured to be incorporated or taken into consideration.

Instructions: Response to this RFI is voluntary. Each responding entity (individual or organization) is requested to submit only one response. OSTP welcomes any responses to inform and guide the work of OSTP. Please feel free to respond to one or as many prompts as you choose. Submission must not exceed 10 pages in 12 point or larger font, with a page number provided on each page. Responses should include the name of the person(s) or organization(s) filing the comment, as well as the respondent type (e.g., academic, advocacy, professional society, community-based organization, industry, trainee/student, member of the public, government, other). Respondent's role in the organization may also be provided (e.g., researcher, faculty, student, program manager, journalist) on a voluntary basis. Comments containing references, studies, research, and other empirical data that are not widely published should include copies or electronic links of the referenced materials. No business proprietary information, copyrighted information, or personally identifiable information should be submitted in response to this RFI. If you submit scientific or technical studies or other results of scientific research, OSTP requests (but is not requiring) that you also provide the following information where it is available: (1) Identification of the funding source(s) and sponsoring organization(s) of the research; (2) the extent to which the research findings were reviewed by a potentially affected party prior to publication or submission to the docket, and identification of any such parties; and (3) the nature of any financial relationships (e.g., consulting agreements, expert witness support, or research funding) between investigators who conducted the research and any organization(s) or entities having a financial interest in Federal scientific integrity. Disclosure of such information is intended to promote transparency and scientific integrity of data and technical information submitted to the record. Please be aware that comments submitted in response to this RFI may be posted on OSTP's website or otherwise released publicly.

In accordance with FAR 15.202(3), responses to this notice are not offers and cannot be accepted by the Federal Government to form a binding contract. Additionally, those submitting responses are solely responsible for all expenses associated with response preparation.

FOR FURTHER INFORMATION CONTACT: For additional information, please direct questions to Dr. Ryan Donohue at 202-456-4444 or ScientificIntegrity@ostp.eop.gov.

SUPPLEMENTARY INFORMATION: The framework will include assessment criteria that OSTP and agencies can use to inform, review, and improve the content and implementation of agency scientific-integrity policies. To support this framework, OSTP seeks information on: (1) How scientific integrity policies can address important and emergent issues of our time, including diversity, equity, inclusion and accessibility; new technologies; emerging modes of science; and coordination with related policy domains; (2) The criteria to evaluate scientific integrity policy content, implementation, outcomes and impacts in the Executive Branch; (3) How to ensure that scientific integrity evaluation findings lead to effective iterative improvement of Federal scientific integrity policy and practices; and (4) How to ensure the long-term viability and implementation of Federal scientific integrity policies, practices, and culture through future Administrations.

Please note the purpose of this RFI is not to receive reports on alleged offenses that are in violation of Federal scientific integrity policies. If you have witnessed or experienced any harmful acts that may undermine scientific integrity and you would like to report these allegations, please contact the scientific integrity office or the Office of Inspector General at the relevant Federal agency.

Background: On January 27, 2021, President Biden issued the Presidential Memorandum on Restoring Trust in Government Through Scientific Integrity and Evidence-Based Policymaking (2021 Presidential Memorandum). The 2021 Presidential Memorandum asserts the Administration's goal to make evidence-based policy decisions guided by the best available science and data, recognizing that scientific and technological information, data, and evidence are central to the development and iterative improvement of sound policies and to the delivery of equitable programs across every area of government. The 2021 Presidential Memorandum emphasizes that political interference in the work of Federal scientists and other scientists who support the work of the Federal government and in the communication of scientific facts undermines the welfare of the Nation, contributes to systemic inequities and injustices, and violates the trust that the public places in government to best serve its collective interests. The 2021 Presidential Memorandum reaffirms and builds on the Presidential Memorandum of March 9, 2009 (Scientific Integrity) and the Director of the Office of Science and Technology Policy's Memorandum of December 17, 2010 (Scientific Integrity), which together specify elements that scientific integrity policies of Federal departments and agencies are to address.

On January 11, 2022, OSTP issued a report of its Scientific Integrity Task Force titled, Protecting the Integrity of Government Science, that included an assessment of Federal scientific integrity policies and practices. Among other remarks on scientific integrity policies, the report stated that agencies need to strengthen scientific integrity policies to deter undue influence in the conduct, management, communication, and use of science; that violations involving high-level officials are the most problematic and difficult to address; and that further action is required to establish and maintain a culture of scientific integrity across all individuals and agencies that conduct, manage, communicate, and make use of science. The Task Force report also notes that a strong organizational culture of scientific integrity is a necessary foundation to reduce the potential for wrongdoing, protect against inappropriate influence, reinforce agency missions and goals, and ensure equitable delivery of Federal Government programs. The report made several recommendations. All Federal agencies—not just those that fund and conduct scientific research—need to develop, implement, and periodically review and update scientific integrity policies and that agencies need to apply scientific integrity policies to all those in Federal agencies who conduct, manage, communicate, or use science. Further, the report identified numerous good practices that Federal agencies can readily adopt and adapt for use as appropriate to their different missions and needs, including: (1) Fostering a culture of scientific integrity, which involves effective agency leadership and modeling of appropriate behaviors; (2) protecting the integrity of the research process; (3) communicating science with integrity, which entails effective and transparent communication of scientific information to decision-makers, the media, and the American people; and (4) Safeguarding scientific integrity, which requires clear, visible procedures for reporting concerns, robust assessment and adjudication, and consistent enforcement of consequences when violations are found. Finally, the report recommended that scientific integrity policies be updated to address important and emergent issues of our time, including diversity, equity, inclusion, and accessibility; new technologies, including artificial intelligence and machine learning; emerging modes of science, such as citizen science and community-engaged research; and coordination with related policy domains, such as open data and promotion of safe, equitable workplaces.

The 2021 Presidential Memorandum directs the development of a framework to inform and support the regular assessment and iterative improvement of agency scientific integrity policies and practices, to support the Director and OSTP in ensuring that agencies adhere to the principles of scientific integrity. This framework shall be completed 120 days after the release of the Task Force report and include assessment criteria that OSTP and agencies can use to inform, review, and improve the design and implementation of agency scientific-integrity policies. The Director shall publish this framework on the OSTP website.

This request for information aims to support OSTP's and the Task Force's work to develop the framework for regular assessment and iterative improvement of agency scientific integrity policies and practices. This RFI is motivated by the Presidential Memorandum's direction that the Task Force gather input from stakeholders and the public regarding the scientific integrity policies and practices and the Scientific Integrity Task Force's previous listening sessions, which underscored the need for ongoing public engagement on scientific integrity and policymaking processes.

Information Requested

Respondents may provide information on one or as many topics below as they choose. Input is welcome from stakeholders and members of the public representing all backgrounds and perspectives. Through this RFI, OSTP seeks information on assessment and improvement of scientific integrity policies and practices in the Federal government, including on the following topics:

1. Information is requested on how scientific integrity policies at Federal agencies and other components of the Executive Branch can be developed or updated to address important and emergent issues of our time, including: (1) Diversity, equity, inclusion, and accessibility, which are essential to advancing the conduct, communication, and use of science, ensuring the equitable delivery of government programs, and improving equitable participation in science by diverse communities across the Nation; (2) New technologies, such as artificial intelligence, machine learning, and the lack of transparency and potential for bias in computer algorithms and associated data; (3) Emerging modes of science, such as citizen science and community-engaged research; and (4) Coordination with related policy domains, such as open science and data; quality guidelines for data and information that agencies release; promotion of safe, equitable workplaces free from harassment and discrimination; and protection of research security and responding to research misconduct.

2. Information is requested on the criteria that should be used to evaluate scientific integrity policies: C ontent, implementation, outcomes, and impacts in Federal agencies and other components of the Executive Branch. Consider methods and metrics for evaluating elements such as, but not limited to: Policy provisions, practices, capacity, and actions so that determinations can be made on their efficacy to achieve desired outcomes and impacts.

3. Information is requested on how to ensure that scientific integrity evaluation findings, and other findings that evolve over time, such as findings on the emergent issues identified above, lead to iterative improvement of Federal scientific integrity policy and practices. Consider information covering, but not limited to: Types and frequency of evaluation of agency scientific integrity policies and practices; steps that OSTP, Federal agencies, and other components of the Executive Branch should take to ensure regular comprehensive evaluation and continuous improvement of scientific integrity policies and practices; and other mechanisms or process elements that should be included in the framework to ensure effective iterative improvement of Federal scientific integrity policy and practices.

4. Information is requested on how to ensure the long-term viability and implementation of Federal scientific integrity policies, practices, and culture through future Administrations. Consider information on, but not limited to: Ways to ensure Federal scientific integrity is robust through changes in government leadership, funding, and cultural shifts; how to institutionalize policies and practices that ensure the integrity of science, build and sustain a culture of scientific integrity, and encourage transparency; and how to provide accountability, such as through procedures to identify, address, and provide appropriate and meaningful consequences for instances when scientific integrity policies have been violated.

Dated: February 28, 2022.
Stacy Murphy,
Operations Manager.

[FR Doc. 2022-04466 Filed 3-2-22; 8:45 am]

BILLING CODE 3270-F1-P